NUCLEAR REGULATORY COMMISSION

[NRC-2020-0106]

Guidance for Changes During Construction for New Nuclear Power Plants Licenses

AGENCY: Nuclear Regulatory Commission.

ACTION: Regulatory guide; issuance.

SUMMARY: The U.S. Nuclear Regulatory Commission (NRC) is issuing a new Regulatory Guide (RG) 1.237, entitled “Guidance for Changes During Construction for Nuclear Power Plants Being Constructed Under a Combined License Referencing a Certified Design Under 10 CFR part 52.” This regulatory guide (RG) describes a process that the NRC staff considers acceptable for implementation of changes to the design of structures, systems, and components of a facility being constructed under a combined operating license that references a certified design.

DATES: RG 1.237 is available on February 25, 2021.

ADDRESSES: Please refer to Docket ID NRC-2020-0106 when contacting the NRC about the availability of information regarding this document. You may obtain publicly available information related to this document using any of the following methods:

• Federal Rulemaking Website: Go to https://www.regulations.gov and search for Docket ID NRC-2020-0106. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

RG 1.237 and the regulatory analysis may be found in ADAMS under Accession Nos. ML20349A335 and ML20010G336.

Regulatory guides are not copyrighted, and NRC approval is not required to reproduce them.

FOR FURTHER INFORMATION CONTACT: Michael Eudy, Office of Nuclear Regulatory Research, telephone: 301-415-1304, email: Michael.Eudy@nrc.gov and Marieliz Johnson, Office of Nuclear Reactor Regulation, telephone: 301-415-5861, email: Marieliz.Johnson@nrc.gov. Both are staff of the U.S. Nuclear Regulatory Commission, Washington, DC 20555-0001.

SUPPLEMENTARY INFORMATION:

I. Discussion

The NRC is issuing a new guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

II. Additional Information

RG 1.237 was issued with a temporary identification of draft regulatory guide (DG)-1321. The NRC published a notice of the availability of DG-1321 in the Federal Register on May 5, 2020 (85 FR 26725) for a 60-day public comment period. The public comment period closed on July 6, 2020. Public comments on DG-1321 and the staff responses to the public comments are available in ADAMS under Accession No. ML20349A336.

III. Congressional Review Act

This RG is a rule as defined in the Congressional Review Act (5 U.S.C. 801-808). However, the Office of Management and Budget has not found it to be a major rule as defined in the Congressional Review Act.

IV. Backfitting, Forward Fitting, and Issue Finality

This RG provides guidance on implementation of a process for making changes to the design of structures, systems, and components of a facility being constructed under a combined license. Issuance of this RG, would not constitute backfitting as defined in section 50.109 of title 10 of the Code of Federal Regulations (10 CFR), “Backfitting,” and as described in NRC Management Directive 8.4, “Management of Backfitting, Forward Fitting, Issue Finality, and Information Requests”; affect issue finality of any approval issued under 10 CFR part 52, “Licenses, Certificates, and Approvals for Nuclear Power Plants”; or constitute forward fitting as defined in MD 8.4, because, as explained in this RG, licensees are not required to comply with the positions set forth in this RG. If, in the future, the NRC were to impose a position in this RG in a manner that would constitute backfitting or forward fitting or affect the issue finality for a part 52 approval, then the NRC would address the backfitting provision in 10 CFR 50.109, the forward fitting provision of MD 8.4, or the applicable issue finality provision in part 52, respectively.

Dated: February 19, 2021.
For the Nuclear Regulatory Commission.
Meraj Rahimi,
Chief, Regulatory Guidance and Generic Issues Branch, Division of Engineering, Office of Nuclear Regulatory Research.

[FR Doc. 2021-03865 Filed 2-24-21; 8:45 am]

BILLING CODE 7590-01-P